DEPARTMENT OF HEALTH AND HUMAN SERVICES

Centers for Disease Control and Prevention

[60Day-02-55]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: National Survey for Laboratory Containment of Wild Polioviruses—New—National Vaccine Program Office (NVPO), Centers for Disease Control and Prevention (CDC). Global polio eradication is anticipated within the next few years. The only sources of wild poliovirus will be in biomedical laboratories. Prevention of inadvertent transmission of polioviruses from the laboratory to the community is crucial.

The first step toward laboratory containment is a national survey of all biomedical laboratories. The survey will alert laboratories to the impending eradication of polio, encourage the disposition of all unneeded wild poliovirus infectious and potential infectious materials, and establish a national inventory of laboratories retaining such materials. Laboratories on the inventory will be kept informed of polio eradication progress and notified, when necessary, to implement biosafety requirements appropriate for the risk of working with such materials.

In June 2001, the Secretary for Health and Human Services, Tommy Thompson, declared in a letter to the Regional Director of the Pan American Health Organization that:

The United States is fully committed to PAHO's Executive Committee Resolution CE126.R4 urging Member States “to initiate activities related to the containment of any laboratory material that may harbor specimens of wild poliovirus.”

The Department of Health and Human Services proposes a national survey of all biomedical laboratories that may possess wild poliovirus infectious or potential infectious materials. An estimated 15,000 biomedical laboratories, in six categories of institutions: academic, federal government, hospital, industry, private, and state and local government facilities, will be included in the national survey.

The national survey instruments and logistics will be tested during the OMB approved Pilot Survey (OMB Number: 0920-0545), scheduled to begin May 2002. The survey instruments ask laboratories to indicate whether or not they possess wild poliovirus infectious and/or potential infectious materials. If such materials are present, respondents are asked to indicate the types of materials and estimated numbers retained. Survey instruments will be available on the NVPO web page, and institutions will be encouraged to submit completed survey forms electronically.

No cost beyond time involved to complete the survey will be charged to the respondent. The time required for individuals and institutions to complete the national survey instruments is a function of records quality in each laboratory. It will take the respondent an average of 45 minutes to complete the survey form.

Respondents (institutions in the following categories) | Number of respondents* | Number of responses/respondent | Average burden/response (in hrs.) | Total burden (in hrs.)
Academic | 301 | 1 | 45/60 | 226
Federal | 10 | 1 | 45/60 | 8
Hospital | 5,134 | 1 | 45/60 | 3,851
Industry | 1,217 | 1 | 45/60 | 913
Private | 4,226 | 1 | 45/60 | 3,170
State and local government | 1,499 | 1 | 45/60 | 1,124
Total |  |  |  | * 9,292
* The database of biomedical laboratories is currently under development. The numbers of respondents are best estimates.

Dated: May 6, 2002.
Nancy E. Cheal,
Acting Associate Director for, Policy, Planning and Evaluation, Centers for Disease Control, and Prevention.

[FR Doc. 02-11712 Filed 5-9-02; 8:45 am]

BILLING CODE 4163-18-P